DEPARTMENT OF HOMELAND SECURITY

Federal Emergency Management Agency

44 CFR Part 67

[Docket No. FEMA-B-7744]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before January 31, 2008.

ADDRESSES: The corresponding preliminary Flood Insurance Rate Map (FIRM) for the proposed BFEs for each community are available for inspection at the community's map repository. The respective addresses are listed in the table below.

You may submit comments, identified by Docket No. FEMA-B-7744, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation** | *Elevation in feet (NGVD) +Elevation in feet (NAVD) #Depth in feet above ground: Effective | *Elevation in feet (NGVD) +Elevation in feet (NAVD) #Depth in feet above ground: Modified | Communities affected
Autauga County, Alabama, and Incorporated Areas
Autauga Creek | 1570 feet downstream from County Road 4 | None | +159 | City of Prattville, Unincorporated Areas of Autauga County.
| 4370 feet upstream from Railroad | +278 | +280
Tributary 1 | Confluence with Autauga Creek | +205 | +199 | City of Prattville.
| 1050 feet upstream from confluence with Autauga Creek | +207 | +199
Tributary 2 | 1254 feet upstream from confluence with Autauga Creek | +204 | +207 | City of Prattville, Unincorporated Areas of Autauga County.
| 16 feet upstream from Railroad | +226 | +228
Breakfast Creek | 220 feet upstream from confluence with Autauga Creek | None | +211 | City of Prattville.
| 235 feet upstream from Bridge Creek Road | None | +319
Noland Creek | 32 feet downstream from confluence with Dry Branch | None | +165 | City of Prattville.
| 3288 feet upstream from Copper Ridge Road | None | +304
Pine Creek | At South Memorial Drive | +159 | +163 | City of Prattville.
| 2440 feet upstream from confluence with Dunn Branch | +307 | +311
Tributary 1 | 380 feet upstream from confluence with Pine Creek | +287 | +289 | City of Prattville.
| 907 feet upstream from North Memorial Drive | +334 | +332
Tributary 2 | 430 feet upstream from Holly Court | +312 | +314 | City of Prattville.
| 1520 feet upstream from Henderson Lane | +348 | +350
Tributary 3 | 330 feet upstream from confluence with Pine Creek Tributary 4 | +296 | +301 | City of Prattville.
| 2095 feet upstream from confluence with Pine Creek Tributary 4 | +300 | +313
Tributary 4 | 15 feet upstream from confluence with Pine Creek Tributary 3 | +296 | +297 | City of Prattville.
| 1240 feet upstream from confluence with Pine Creek Tributary 3 | +302 | +310
Rogers Branch | 290 feet upstream from confluence with Noland Creek | None | +249 | City of Prattville.
| 7600 feet upstream from confluence with Noland Creek | None | +393
Swift Creek | 6510 feet upstream from Highway 14 W | None | +155 | Town of Autaugaville.
| 7370 feet upstream from Highway 14 W | None | +157
White Water Creek | 2150 feet upstream from Highway 14 W | None | +157 | Town of Autaugaville.
| 3720 feet upstream from Highway 14 W | None | +162
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Prattville
Maps are available for inspection at 101 West Main Street, Prattville, AL 36067.
Town of Autaugaville
Maps are available for inspection at 109 North Taylor Street, Autaugaville, AL 36003.
Unincorporated Areas of Autauga County
Maps are available for inspection at 134 N. Court Street, Room 106, Prattville, AL 36067.
Jackson County, Alabama, and Incorporated Areas
Bengis Creek Tributary | 1180 feet upstream from County Route 85 | None | +614 | City of Stevenson.
| 1195 feet upstream from County Route 85 | None | +614
Crow Creek | 240 feet upstream from John T Reid Parkway | None | +607 | City of Stevenson.
| 790 feet upstream from County Route 53 | None | +610
Dry Creek | 2300 feet upstream from Snodgrass Road | None | +608 | Unincorporated Areas of Jackson County.
| 25 feet downstream from Southern Railway | None | +622
Guntersville Lake | 8810 feet upstream from Goosepond Drive | None | +598 | City of Scottsboro.
| 4900 feet downstream from Goosepond Drive | None | +598
Little Paint Creek | 80 feet downstream from County Route 108 | +590 | +589 | Unincorporated Areas of Jackson County.
| 50 feet upstream from County Route 108 | None | +591
Tennessee River | 1300 feet downstream from Railroad | None | +612 | City of Bridgeport.
| 6020 feet downstream from Railroad | None | +612
Town Creek | 4310 feet upstream from County Route 33 | None | +605 | Unincorporated Areas of Jackson County.
| 4320 feet upstream from County Route 33 | None | +605
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Bridgeport
Maps are available for inspection at 116 Jim Thomas Avenue, Bridgeport, AL 35740.
City of Scottsboro
Maps are available for inspection at 916 S. Broad Street, Scottsboro, AL 35768.
City of Stevenson
Maps are available for inspection at 104 Kentucky Avenue, Stevenson, AL 35772.
Unincorporated Areas of Jackson County
Maps are available for inspection at 102 E. Laurel Street, Suite 47, Scottsboro, AL 35768.
Tulsa County, Oklahoma, and Incorporated Areas
Anderson Creek | Approximately 480 ft upstream of confluence with Fisher Creek | +659 | +656 | City of Sand Springs, Unincorporated Areas of Tulsa County.
| Approximately 2480 Feet upstream of confluence with Anderson Creek Tributary | +744 | +746
Tributary | Confluence with Anderson Creek | +738 | +737 | City of Sand Springs, Unincorporated Areas of Tulsa County.
| Approximately 1780 ft upstream of S 153rd Ave W | None | +787
Tributary A-1 | Confluence with Anderson Creek Tributary | None | +773 | Unincorporated Areas of Tulsa County.
| Approximately 1285 ft upstream of confluence with Anderson Creek Tributary | None | +785
Arkansas River | Approximately 7000 ft downstream of S 185th Ave E and E 161st St intersection (Wagoner County line) | +581 | +582 | Unincorporated Areas of Tulsa County, City of Jenks, City of Sand Springs, City of Tulsa, Town of Bixby.
| Keystone Dam | +665 | +666
Ator Tributary | Confluence with Bird Creek | None | +600 | City of Owasso.
| Intersection with E 4th St. | +600 | +603
Berryhill Creek | Confluence with Arkansas River | +641 | +642 | City of Sand Springs, Unincorporated Areas of Tulsa County.
| Approximately 5995 ft upstream of S 65th Ave W | +709 | +714 |
Tributary | Confluence with Berryhill Creek | +665 | +666 | Unincorporated Areas of Tulsa County.
| Approximately 180 ft upstream of W 41st St | +701 | +704
Bigheart Creek | Confluence with Arkansas River | +643 | +644 | Unincorporated Areas of Tulsa County.
| Approximately 2000 ft upstream of W Cameron St | +675 | +674
Bird Creek Tributary 5A | Confluence with Bird Creek | +590 | +591 | City of Owasso.
| Approximately 3300 ft upstream of N 123rd Ave E | +654 | +653
Blackjack Creek | Confluence with Horsepen Creek | +601 | +603 | City of Owasso.
| Approximately 400 ft upstream of E 116th St N | None | +682
Tributary A | Confluence with Blackjack Creek | +614 | +613 | City of Collinsville, Unincorporated Areas of Tulsa County.
| Intersection with 19th St. | +645 | +644
Charley Creek | Confluence with Bird Creek | +616 | +617 | Unincorporated Areas of Tulsa County.
| Approximately 1020 ft upstream of N Yale Ave | None | +638
Cherokee School Creek | Confluence with Bird Creek | None | +606 | Unincorporated Areas of Tulsa County.
| Approximately 2900 ft upstream of E 66th St N | None | +616
Cherry Creek (North Tulsa) | Confluence with Horsepen Creek | +609 | +610 | Unincorporated Areas of Tulsa County.
| Approximately 330 ft upstream of E 126th St N | None | +681
Cherry Creek (West Tulsa) | Confluence with Arkansas River | +625 | +624 | Unincorporated Areas of Tulsa County, City of Tulsa.
| Approximately 2200 ft upstream of W 21st St | None | +643
Tributary | Confluence with Cherry Creek (North Tulsa) | None | +661 | Unincorporated Areas of Tulsa County.
| Approximately 5800 ft upstream of E 136th St N | None | +687
Coal Creek (West Tulsa) | Confluence with Polecat Creek | +625 | +624 | City of Jenks, Unincorporated Areas of Tulsa County.
| Approximately 4145 feet upstream of W 151st St. intersection | +711 | +712
Tributary A | Confluence with Coal Creek | +644 | +646 | City of Glenpool.
| Approximately 360 ft downstream of S Elwood Ave | None | +673
Tributary B | Confluence with Coal Creek (West Tulsa) | +644 | +645 | City of Glenpool, Unincorporated Areas of Tulsa County.
| Intersection with E 131st Street | +697 | +698
Country Estates Creek | Confluence with Blackjack Creek | +637 | +643 | Unincorporated Areas of Tulsa County.
| Approximately 700 ft downstream of E 121st St N | None | +666
Duck Creek | Confluence with Snake Creek | +608 | +606 | Unincorporated Areas of Tulsa County.
| Approximately 9100 ft upstream of U.S. 75 | +683 | +684
Tributary | Confluence with Duck Creek | +661 | +662 | Unincorporated Areas of Tulsa County.
| Approximately 10,000 ft upstream of U.S. 75 | +685 | +686
East Creek | Approximately 2780 ft downstream of E 146 St N | +601 | +600 | Unincorporated Areas of Tulsa County.
| Approximately 50 ft downstream of E 126th St N | +665 | +664
Euchee Creek Tributary 1 | Confluence with Euchee Creek | None | +688 | City of Sand Springs.
| Approximately 170 ft upstream of confluence with Euchee Creek | None | +691
Tributary 2 | Confluence with Euchee Creek | None | +689 | Unincorporated Areas of Tulsa County.
| Approximately 2000 ft upstream of confluence with Euchee Creek | None | +690
Fisher Creek | Confluence with Arkansas River | +649 | +650 | Unincorporated Areas of Tulsa County.
| Approximately 4100 ft upstream of W 41st St | None | +795
Fisher Creek Overflow | Confluence with Arkansas River | None | +651 | City of Sand Springs, Unincorporated Areas of Tulsa County.
| Approximately 2600 ft upstream of S 145th Ave W | None | +656
Fisher Creek Tributary | Confluence with Fisher Creek | None | +701 | Unincorporated Areas of Tulsa County.
| Approximately 1200 ft upstream of S 157th Ave W | None | +775
Fox Meadow Tributary | Confluence with Blackjack Creek | None | +657 | Unincorporated Areas of Tulsa County.
| Approximately 1400 ft upstream of E 120th St N | None | +676
Franklin Creek (Formerly Arkansas River Tributary at Sand Springs | Confluence with Arkansas River | +650 | +651 | City of Sand Springs, Unincorporated Areas of Tulsa County.
| Approximately 5,770 ft upstream of intersection with W 12th St | None | +750
Fred Creek | Confluence with Arkansas River | +618 | +615 | City of Tulsa.
| 617 ft upstream of E 71st St. | +706 | +705
Fry Ditch No. 1 Tributary | Confluence with Fry Ditch No. 1 | None | +606 | Town of Bixby.
| Approximately 620 ft upstream of E 119th St | None | +616
Fry Ditch No. 2 | Confluence with Arkansas River | +604 | +605 | Town of Bixby.
| Approximately 522 ft upstream of E 86th St | +726 | +727
Fry Ditch No. 2 Tributary | Confluence with Fry Ditch No. 2 | None | +622 | Town of Bixby.
| Approximately 60 ft downstream of E Greens Ave | None | +632
Hager Creek | Confluence with Polecat Creek | +625 | +623 | City of Jenks.
| Approximately 85 feet downstream of S Elwood intersection | +628 | +629
Harlow Creek Overflow | Approximately 240 ft upstream of S 41st Ave W | None | +640 | Unincorporated Areas of Tulsa County, City of Tulsa.
| Approximately 1970 ft upstream of S 57th Ave W | None | +644
Horsepen Creek | Approximately 3970 feet downstream of 137th St. (county line) | +600 | +601 | City of Collinsville.
| Approximately 2400 feet upstream of N Sheridan Rd | None | +661
North Tributary 1 | Confluence with Horsepen Creek | None | +625 | Unincorporated Areas of Tulsa County.
| Approximately 1600 ft upstream of N Memorial Dr | None | +642
North Tributary 2 | Confluence with Horsepen Creek | None | +634 | Unincorporated Areas of Tulsa County.
| Approximately 7100 ft upstream of E 166th St N | None | +678
North Tributary 3 | Confluence with Horsepen Creek | None | +637 | Unincorporated Areas of Tulsa County.
| Approximately 4300 ft downstream of N Highway 75 | None | +657
Horsepen Creek Tributary B | Confluence with Horsepen Creek | None | +642 | Unincorporated Areas of Tulsa County.
| Approximately 370 ft upstream of confluence with Horsepen Creek Tributary B | None | +644
| Confluence with Horsepen Creek Tributary B | None | +643 | Unincorporated Areas of Tulsa County.
| Approximately 2800 ft upstream of confluence witih Horsepen Creek Tributary B | None | +650
Tributary C | Confluence with Horcepen Creek | None | +646 | City of Collinsville, Unincorporated Areas of Tulsa County.
| Approximately 750 ft upstream of E State Highway 20 | None | +653
Horsepin Creek | Confluence with South Fork Horse Creek | +633 | +634 | Town of Skiatook.
| Approximately 3100 ft upstream of E Cherokee St | +638 | +637
Joe Creek | Confluence with Arkansas River | +619 | +616 | City of Tulsa.
| Confluence with East and West Branches of Joe Creek | +662 | +660
Little Sand Creek | Confluence with Arkansas River | +662 | +663 | Unincorporated Areas of Tulsa County.
| Approximately 4680 ft upstream of W 8th St | +749 | +751
Lower Fred Creek | Confluence with Arkansas River | +616 | +614 | City of Tulsa.
| Approximately 324 ft upstream of E 86th St | +621 | +618
Mooser Creek | Confluence with Arkansas River | +625 | +624 | City of Tulsa.
| Approximately 314 ft downstream of W 57th St | +714 | +713
Neckel Creek | Confluence with Polecat Creek | +629 | +630 | City of Tulsa.
| Approximately 950 ft upstream of W 91st St | +635 | +636
Nichols Creek | Confluence with Coal Creek (West Tulsa) | +684 | +681 | City of Glenpool.
| 2,180 Feet downstream from W 141st Street (County Boundary) | +756 | +755
Panther Creek | Confluence with Charley Creek | +621 | +624 | Unincorporated Areas of Tulsa County.
| Approximately 2100 ft upstream of N Yale Ave | None | +639
Polecat Creek | Confluence with Arkansas River | +612 | +610 | City of Jenks, Unincorporated Areas of Tulsa County.
| Intersection with S 33rd Ave | +633 | +634
Posey Creek | Confluence with Arkansas River | +605 | +606 | City of Glenpool.
| Approximately 52 feet upstream of E 151st Street | +702 | +703
North Tributary 1 | Confluence with Posey Creek | +629 | +630 | Unincorporated Areas of Tulsa County.
| Approximately 130 ft downstream of S 7th St | +711 | +712
South Tributary 1 | Confluence with Posey Creek | +612 | +610 | Unincorporated Areas of Tulsa County, Town of Bixby.
| Approximately 2700 ft upstream of E 151st St | None | +668
South Tributary 2 | Confluence with Posey Creek | None | +624 | Unincorporated Areas of Tulsa County, Town of Bixby.
| Approximately 540 ft upstream of S Harvard Ave | None | +662
Prattville Creek | Confluence with Arkansas River | +650 | +649 | City of Sand Springs.
| Approximately 930 Ft upstream of S 112th Ave W | None | +739
Tributary 1 | Confluence with Prattville Creek | None | +667 | City of Sand Springs.
| Approximately 780 ft upstream of confluence with Prattville Creek | None | +671
Tributary 2 | Confluence with Prattville Creek | None | +693 | City of Tulsa.
| Approximately 260 ft downstream of S Whispering Creek Dr | None | +701
Tributary 3 | Confluence with Prattville Creek | None | +712 | City of Sand Springs.
| Approximately 1350 ft downstream of S Linwood Dr | None | +725
Tributary 4 | Confluence with Prattville Creek | None | +728 | City of Sand Springs.
| Approximately 260 ft upstream of confluence with Prattville Creek | None | +730
Ranch Creek | Confluence with Bird Creek | +591 | +592 | Unincorporated Areas of Tulsa County.
| Approximately 1070 ft upstream of E 116th St N | None | +659
Ranch Creek Tributary | Confluence with Ranch Creek | +591 | +592 | Unincorporated Areas of Tulsa County.
| Approximately 1100 ft upstream of N Sheridan Rd | None | +669
Tributary A | Confluence with Ranch Creek | +591 | +592 | City of Owasso.
| Intersection with N Garnett Rd | +677 | +674
Tributary B | Confluence with Ranch Creek | +607 | +608 | City of Owasso, Unincorporated Areas of Tulsa County.
| Approximately 50 ft downstream of E 106th St | +649 | +650
Redfork Creek | Conflucence with Arkansas River | +646 | +647 | City of Sand Springs, Unincorporated Areas of Tulsa County.
| Approximately 1680 ft upstream of E 41st St | +646 | +647
Tributary 1 | Confluence with Redfork Creek | None | +696 | City of Sand Springs.
| Approximately 1500 ft upstream of confluence with Redfork Creek | None | +722
Tributary 2 | Confluence with Redfork Creek | None | +715 | City of Sand Springs.
| Approximately 775 ft upstream of confluence with Redfork Creek | None | +744
Remington Tributary | Confluence with Blackjack Creek | None | +650 | Unincorporated Areas of Tulsa County.
| Approximately 250 ft upstream of E 122nd St N | None | +653
Rolling Meadows Creek | Confluence with Coal Creek (West Tulsa) | +694 | +691 | City of Glenpool, Unincorporated Areas of Tulsa County.
| Approximately 1480 ft. upstream of S 26th Ave. W. Intersection | +738 | +740
Sand Creek | Confluence with Arkansas River | +660 | +659 | City of Sand Springs.
| Intersection with Archer St | +723 | +722
Sand Springs Lake Tributary | Confluence with West Bigheart Creek | +663 | +661 | City of Sand Springs.
| Approximately 1,460 ft upstream of Old North RD E | None | +773
Sawgrass Tributary | Confluence with Ranch Creek Tributary B | None | +647 | City of Owasso.
| Approximately 850 ft upstream of confluence with Ranch Creek Tributary B | None | +654
Shady Grove Creek | Confluence with Harlow Creek | +659 | +658 | Unincorporated Areas of Tulsa County.
| Approximately 3235 ft upstream of U.S. 64 | +665 | +664
Skunk Creek | Confluence with Bird Creek | None | +636 | Unincorporated Areas of Tulsa County.
| Approximately 1450 ft upstream of N Lewis Ave | None | +667
Snake Creek | Confluence with Arkansas River | +597 | +598 | Unincorporated Areas of Tulsa County.
| Approximately 10,900 ft upstream of 201st St | +614 | +613
Snake Creek Tributary | Confluence with Snake Creek | +597 | +598 | Unincorporated Areas of Tulsa County.
| Approximately 1381 ft upstream of E 181st St | +604 | +603
Three Lakes Tributary | Confluence with Bird Creek Tributary 5A | None | +603 | City of Owasso.
| Approximately 320 ft downstream of E 83rd St. N | None | +604
Vensel Creek | Confluence with Arkansas River | +611 | +610 | City of Tulsa.
| Approximately 49 ft downstream of E 82nd St | +691 | +690
Vensel Creek South | Confluence with Arkansas River | +611 | +610 | City of Tulsa.
| Approximately 39 ft downstream of E 101st St | +617 | +616
West Bigheart Creek | Confluence with Bigheart Creek | +649 | +650 | City of Sand Springs.
| Approximately 2300 ft upstream of E Old North Rd | +720 | +721
White Church Creek | Confluence with Haikey Creek | +607 | +605 | Unincorporated Areas of Tulsa County.
| Approximately 218 ft upstream of E 111th St | +679 | +680
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Collinsville
Maps are available for inspection at 106 N. 12th St., Collinsville, OK 74021.
City of Glenpool
Maps are available for inspection at 14522 Broadway, Glenpool, OK 74033.
City of Jenks
Maps are available for inspection at 2111 N. Elm St., Jenks, OK 74037.
City of Owasso
Maps are available for inspection at 207 South Cedar St., Owasso, OK 74055.
City of Sand Springs
Maps are available for inspection at 216 North Lincoln, Sand Springs, OK 74063.
City of Tulsa
Maps are available for inspection at 2317 South Jackson, ste. 302, Tulsa, OK 74103.
Town of Bixby
Maps are available for inspection at 116 West Needles St., Bixby, OK 74008.
Town of Skiatook
Maps are available for inspection at 100 North Broadway, Skiatook, OK 74070.
Unincorporated Areas of Tulsa County
Maps are available for inspection at 633 W. 3rd. Ste 140, Tulsa, OK 74127.

(Catalog of Federal Domestic Assistance No. 97.022, “Flood Insurance.”)

Dated: October 29, 2007.
David I. Maurstad,
Federal Insurance Administrator of the National Flood Insurance Program, Department of Homeland Security, Federal Emergency Management Agency.

[FR Doc. E7-21595 Filed 11-1-07; 8:45 am]

BILLING CODE 9110-12-P